DEPARTMENT OF HOMELAND SECURITY

Federal Emergency Management Agency

[Docket ID FEMA-2012-0003; Internal Agency Docket No. FEMA-B-1268]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
Arizona:
Coconino | City of Flagstaff (12-09-1074P) | The Honorable Sara Presler, Mayor, City of Flagstaff, 211 West Aspen Avenue, Flagstaff, AZ 86001 | City Hall, Stormwater Management Section, 211 West Aspen Avenue, Flagstaff, AZ 86001 | http://www.r9map.org/Docs/12-09-1074P-040020-102IAC.pdf | September 20, 2012 | 040020
Pima | Town of Marana (12-09-0475P) | The Honorable Ed Honea, Mayor, Town of Marana, 11555 West Civic Center Drive, Marana, AZ 85653 | Engineering Department, 11555 West Civic Center Drive, Marana, AZ 85653 | http://www.r9map.org/Docs/12-09-0475P-040118-102IAC.pdf | September 10, 2012 | 040118
Arkansas: Pulaski | Unincorporated areas of Pulaski County (12-06-0415P) | The Honorable Floyd G. Villines, Pulaski County Judge, 201 South Broadway Street, Suite 400, Little Rock, AR 72201 | Pulaski County Road and Bridge Department, 3200 Brown Street, Little Rock, AR 72204 | http://www.rampp-team.com/lomrs.htm | October 11, 2012 | 050179
California:
Los Angeles | City of Long Beach (12-09-0872P) | The Honorable Bob Foster, Mayor, City of Long Beach, 333 West Ocean Boulevard, 14th Floor, Long Beach, CA 90802 | City Hall, 333 West Ocean Boulevard, 9th Floor, Long Beach, CA 90802 | http://www.r9map.org/Docs/12-09-0872P-060136-102DA.pdf | October 5, 2012 | 060136
San Diego | City of Poway (12-09-1309P) | The Honorable Don Higginson, Jr., Mayor, City of Poway, 13325 Civic Center Drive, Poway, CA 92064 | City Hall, 13325 Civic Center Drive, Poway, CA 92064 | http://www.r9map.org/Docs/12-09-1309P-060702-102DA.pdf | September 28, 2012 | 060702
San Diego | Unincorporated areas of San Diego County (11-09-3923P) | The Honorable Ron Roberts, Chairman, San Diego County Board of Supervisors, 1600 Pacific Highway, Room 335, San Diego, CA 92101 | San Diego County Department of Public Works, Flood Control Division, 5201 Ruffin Road, Suite P, San Diego, CA 92123 | http://www.r9map.org/Docs/11-09-3923P-060284-102IAC.pdf | September 13, 2012 | 060284
Colorado:
Adams | City of Aurora (12-08-0046P) | The Honorable Steve Hogan Mayor, City of Aurora, 15151 East Alameda Parkway, Aurora, CO 80012 | Engineering Department, 15151 East Alameda Parkway, Aurora, CO 80012 | http://www.bakeraecom.com/index.php/colorado/adams/ | August 24, 2012 | 080002
Denver | City and County of Denver (12-08-0237P) | The Honorable Michael B. Hancock, Mayor, City and County of Denver, 1437 Bannock Street, Suite 350, Denver, CO 80202 | Department of Public Works, 201 West Colfax Avenue, Department 507, Denver, CO 80202 | http://www.bakeraecom.com/index.php/colorado/denver/ | October 5, 2012 | 080046
El Paso | City of Colorado Springs (12-08-0218P) | The Honorable Steve Bach, Mayor, City of Colorado Springs, 30 South Nevada Avenue, Colorado Springs, CO 80903 | City Administration, 30 South Nevada Avenue, Colorado Springs, CO 80903 | http://www.bakeraecom.com/index.php/colorado/el-paso/ | October 8, 2012 | 080060
Larimer | Town of Estes Park (11-08-0971P) | The Honorable William C. Pinkham, Mayor, Town of Estes Park, P.O. Box 1200, Estes Park, CO 80517 | Municipal Building, 170 MacGregor Avenue, Estes Park, CO 80517 | http://www.bakeraecom.com/index.php/colorado/larimer/ | October 1, 2012 | 080193
Florida:
Monroe | Unincorporated areas of Monroe County (12-04-2446P) | The Honorable David Rice, Mayor, Monroe County, 9400 Overseas Highway, Suite 210, Marathon Airport Terminal, Marathon, FL 33050 | Monroe County Building Department, 2798 Overseas Highway, Suite 330, Marathon, FL 33050 | http://www.bakeraecom.com/index.php/florida/monroe-3/ | September 20, 2012 | 125129
Orange | Unincorporated areas of Orange County (11-04-6805P) | The Honorable Teresa Jacobs, Mayor, Orange County, 201 South Rosalind Avenue, Orlando, FL 32801 | Orange County Stormwater Management Department, 4200 South John Young Parkway, Orlando, FL 32839 | http://www.bakeraecom.com/index.php/florida/orange-2/ | October 5, 2012 | 120179
Orange | Unincorporated areas of Orange County (12-04-2577P) | The Honorable Teresa Jacobs, Mayor, Orange County, 201 South Rosalind Avenue, Orlando, FL 32801 | Orange County Stormwater Management Department, 4200 South John Young Parkway, Orlando, FL 32839 | http://www.bakeraecom.com/index.php/florida/orange-2/ | September 21, 2012 | 120179
Pinellas | City of Treasure Island (12-04-2824P) | The Honorable Robert Minning, Mayor, City of Treasure Island, 120 108th Avenue, Treasure Island, FL 33706 | City Hall, Building Department, 120 108th Avenue, Treasure Island, FL 33706 | http://www.bakeraecom.com/index.php/florida/pinellas/ | September 20, 2012 | 125153
Nevada:
Washoe | City of Sparks (11-09-3429P) | The Honorable Gino Martini, Mayor, City of Sparks, P.O. Box 857, Sparks, NV 89432 | City Hall, 431 Prater Way, Sparks, NV 89432 | http://www.r9map.org/Docs/11-09-3429P-320021-102IAC.pdf | September 21, 2012 | 320021
Washoe | Unincorporated areas of Washoe County (11-09-3429P) | The Honorable Robert Larkin, Chairman, Washoe County Board of Commissioners, P.O. Box 11130, Reno, NV 89520 | Washoe County Administration Building, Department of Public Works, 1001 East 9th Street, Reno, NV 89512 | http://www.r9map.org/Docs/11-09-3429P-320019-102IAC.pdf | September 21, 2012 | 320019
New Mexico:
Bernalillo | Unincorporated areas of Bernalillo County (11-06-4300P) | The Honorable Art De La Cruz, Chair, Bernalillo County Board of Commissioners, 1 Civic Plaza Northwest, Albuquerque, NM 87102 | Bernalillo County Public Works Division, 2400 Broadway Boulevard, Southeast, Albuquerque, NM 87102 | http://www.rampp-team.com/lomrs.htm | September 5, 2012 | 350001
Pennsylvania:
Chester | Borough of West Chester (12-03-0618P) | Mr. Ernest B. McNeeley Manager, Borough of West Chester 401 East Gay Street West Chester, PA 19380 | Borough Hall, Building, Housing, and Code Enforcement Department, 401 East Gay Street, West Chester, PA 19380 | http://www.rampp-team.com/lomrs.htm | October 12, 2012 | 420292
Chester | Township of Highland (12-03-1320P) | The Honorable Thomas Scott, Chairman, Township of Highland Board of Supervisors, 100 Five Point Road, Coatesville, PA 19320 | Highland Township Building, Road 3, Gum Tree Road, Coatesville, PA 19320 | http://www.rampp-team.com/lomrs.htm | October 18, 2012 | 422289
Chester | Township of Londonderry (12-03-1320P) | The Honorable Richard Brown, Chairman, Township of Londonderry Board of Supervisors, 103 Daleville Road, Cochranville, PA 19330 | Londonderry Township Building, 103 Daleville Road, Cochranville, PA 19330 | http://www.rampp-team.com/lomrs.htm | October 18, 2012 | 421484
Chester | Township of West Marlborough (12-03-1320P) | The Honorable William W. Wylie, Chairman, Township of West Marlborough Board of Supervisors, 1300 Doe Run Road, Coatesville, PA 19320 | West Marlborough Township Hall, 1300 Doe Run Road, Coatesville, PA 19320 | http://www.rampp-team.com/lomrs.htm | October 18, 2012 | 422279
Puerto Rico: Puerto Rico | Commonwealth of Puerto Rico (11-02-2538P) | Mr. Ruben Flores-Marzan, Chairperson, Puerto Rico Planning Board, Roberto Sanchez Vilella Governmental Center, North Building, 16th Floor, De Diego Avenue International Baldorioty de Castro Avenue, San Juan, PR 00940 | Roberto Sanchez Vilella Governmental Center, North Building, 9th Floor, De Diego Avenue International Baldorioty de Castro Avenue, San Juan, PR 00940 | http://www.rampp-team.com/lomrs.htm | September 4, 2012 | 720000
South Carolina:
Richland | City of Columbia (11-04-0263P) | The Honorable Steve Benjamin, Mayor, City of Columbia, 1737 Main Street, Columbia, SC 29201 | City Hall, 1737 Main Street, Columbia, SC 29201 | http://www.bakeraecom.com/index.php/southcarolina/richland/ | October 1, 2012 | 450172
York | City of Rock Hill (12-04-0821P) | The Honorable Doug Echols, Mayor, City of Rock Hill, P.O. Box 11706, Rock Hill, SC 29731 | City Hall, 155 Johnson Street, Rock Hill, SC 29731 | http://www.bakeraecom.com/index.php/southcarolina/york/ | September 17, 2012 | 450196
Texas:
Bexar | City of San Antonio (11-06-4227P) | The Honorable Julian Castro, Mayor, City of San Antonio, 100 Military Plaza, San Antonio, TX 78205 | Municipal Plaza, 114 West Commerce Street, 7th Floor, San Antonio, TX 78205 | http://www.rampp-team.com/lomrs.htm | October 11, 2012 | 480045
Bexar | City of San Antonio (12-06-0221P) | The Honorable Julian Castro, Mayor, City of San Antonio, 100 Military Plaza, San Antonio, TX 78205 | Municipal Plaza, 114 West Commerce Street, 7th Floor, San Antonio, TX 78205 | http://www.rampp-team.com/lomrs.htm | October 11, 2012 | 480045
Bexar | City of San Antonio (12-06-0574P) | The Honorable Julian Castro, Mayor, City of San Antonio, 100 Military Plaza, San Antonio, TX 78205 | Municipal Plaza, 114 West Commerce Street, 7th Floor, San Antonio, TX 78205 | http://www.rampp-team.com/lomrs.htm | October 4, 2012 | 480045
Collin | City of Allen (12-06-0928P) | The Honorable Stephen Terrell, Mayor, City of Allen, 305 Century Parkway, 1st Floor, Allen, TX 75013 | City Hall, Engineering Department, 305 Century Parkway, 1st Floor, Allen, TX 75013 | http://www.rampp-team.com/lomrs.htm | October 19, 2012 | 480131
Guadalupe | City of Schertz (12-06-1767P) | Mr. John Kessel, Manager, City of Schertz, 1400 Schertz Parkway, Schertz, TX 78154 | City Hall, 1400 Schertz Parkway, Schertz, TX 78154 | http://www.rampp-team.com/lomrs.htm | October 18, 2012 | 480269
Johnson | City of Burleson (11-06-3655P) | The Honorable Ken D. Shetter, Mayor, City of Burleson, 141 West Renfro Street, Burleson, TX 76028 | City Hall, 141 West Renfro Street, Burleson, TX 76028 | http://www.rampp-team.com/lomrs.htm | September 20, 2012 | 485459
Tarrant | City of Benbrook (11-06-0937P) | The Honorable Jerry B. Dittrich, Ph.D., Mayor, City of Benbrook, 911 Winscott Road, Benbrook, TX 76126 | Department of Community Development, 911 Winscott Road, Benbrook, TX 76126 | http://www.rampp-team.com/lomrs.htm | October 11, 2012 | 480586
Tarrant | City of Crowley (11-06-4129P) | The Honorable Billy Davis, Mayor, City of Crowley, 201 East Main Street, Crowley, TX 76036 | City Hall, Community Development Department, 201 East Main Street, Crowley, TX 76036 | http://www.rampp-team.com/lomrs.htm | October 12, 2012 | 480591
Tarrant | City of Fort Worth (12-06-0273P) | The Honorable Betsy Price, Mayor, City of Fort Worth, 1000 Throckmorton Street, Fort Worth, TX 76102 | Department of Transportation and Public Works, 1000 Throckmorton Street, Fort Worth, TX 76102 | http://www.rampp-team.com/lomrs.htm | October 1, 2012 | 480596
Tarrant | Unincorporated areas of Tarrant County (11-06-4129P) | The Honorable B. Glen Whitley, Tarrant County Judge, 100 East Weatherford Street, Suite 501, Fort Worth, TX 76102 | Administrative Building, Public Works Department, 100 East Weatherford Street, Fort Worth, TX 76102 | http://www.rampp-team.com/lomrs.htm | October 12, 2012 | 480582
Utah:
Wasatch | Town of Independence (12-08-0153P) | The Honorable Phil Sweat, Mayor, Town of Independence, 4530 East Center Creek Road, Heber City, UT 84032 | 4530 East Center Creek Road, Heber City, UT 84032 | http://www.bakeraecom.com/index.php/utah/wasatch/ | August 30, 2012 | 490263
Wasatch | Unincorporated areas of Wasatch County (12-08-0153P) | The Honorable Michael L. Kohler, Chairman, Wasatch County Board of Commissioners, 25 North Main, Heber City, UT 84032 | 188 South Main, Heber City, UT 84032 | http://www.bakeraecom.com/index.php/utah/wasatch/ | August 30, 2012 | 490164
Wyoming:
Laramie | City of Cheyenne (11-08-0928P) | The Honorable Richard Kaysen, Mayor, City of Cheyenne, 2101 O'Neil Avenue, Room 310, Cheyenne, WY 82001 | City of Cheyenne Engineer's Office, 2101 O'Neil Avenue, Room 206, Cheyenne, WY 82001 | http://www.bakeraecom.com/index.php/wyoming/laramie/ | September 27, 2012 | 560030
Laramie | Unincorporated areas of Laramie County (11-08-0928P) | The Honorable Gay Woodhouse, Chairman, Laramie County Board of Commissioners, 310 West 19th Street, Suite 300, Cheyenne, WY 82001 | Laramie County Planning Department, Historic County Courthouse, 310 West 19th Street, Suite 400, Cheyenne, WY 82001 | http://www.bakeraecom.com/index.php/wyoming/laramie/ | September 27, 2012 | 560029

(Catalog of Federal Domestic Assistance No. 97.022, “Flood Insurance.”)

Dated: September 14, 2012.
Sandra K. Knight,
Deputy Associate Administrator for Mitigation, Department of Homeland Security, Federal Emergency Management Agency.

[FR Doc. 2012-24016 Filed 9-28-12; 8:45 am]

BILLING CODE 9110-12-P